DEPARTMENT OF ENERGY

Federal Energy Regulatory Commission

Combined Notice of Filings #2

Take notice that the Commission received the following electric rate filings:

Docket Numbers: ER12-2055-001.

Applicants: San Gorgonio Farms, Inc.

Description: Response to July 11, 2012 Request for Additional Information to be effective 6/15/2012.

Filed Date: 7/24/12.

Accession Number: 20120724-5037.

Comments Due: 5 p.m. ET 8/14/12.

Docket Numbers: ER12-2293-000.

Applicants: PJM Interconnection, L.L.C.

Description: Original Service Agreement No. 3355; Queue No. W3-044 to be effective 7/6/2012.

Filed Date: 7/24/12.

Accession Number: 20120724-5031.

Comments Due: 5 p.m. ET 8/14/12.

Docket Numbers: ER12-2294-000.

Applicants: PJM Interconnection, L.L.C.

Description: Original Service Agreement No. 3354; Queue No. X2-054 to be effective 7/6/2012.

Filed Date: 7/24/12.

Accession Number: 20120724-5032.

Comments Due: 5 p.m. ET 8/14/12.

Docket Numbers: ER12-2296-000.

Applicants: Southern California Edison Company.

Description: Amendment to IFA and Distribution Service Agreement with Sierra Power Corp. to be effective 7/26/2012.

Filed Date: 7/24/12.

Accession Number: 20120724-5039.

Comments Due: 5 p.m. ET 8/14/12.

Docket Numbers: ER12-2297-000.

Applicants: BFES Inc.

Description: Initial Tariff Baseline to be effective 9/24/2012.

Filed Date: 7/24/12.

Accession Number: 20120724-5056.

Comments Due: 5 p.m. ET 8/14/12.

Docket Numbers: ER12-2298-000.

Applicants: PJM Interconnection, L.L.C., American Transmission Systems, Incorporation.

Description: PJM TOs submit Revised Rate & Allocation Percentages to PJM Tariff Sch 1A Part B to be effective 8/1/2012.

Filed Date: 7/24/12.

Accession Number: 20120724-5057.

Comments Due: 5 p.m. ET 8/14/12.

Docket Numbers: ER12-2299-000.

Applicants: Carolina Power & Light Company.

Description: Rate Schedule No. 195 of Carolina Power and Light Company to be effective 9/22/2012.

Filed Date: 7/24/12.

Accession Number: 20120724-5059.

Comments Due: 5 p.m. ET 8/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2012.
Nathaniel J. Davis, Sr.,
Deputy Secretary.

[FR Doc. 2012-18610 Filed 7-30-12; 8:45 am]

BILLING CODE 6717-01-P